OFFICE OF MANAGEMENT AND BUDGET

Standard Occupational Classification (SOC)—Revision for 2018; Notice

AGENCY: Executive Office of the President, Office of Management and Budget.

ACTION: Notice of solicitation of comments for the 2018 SOC revision.

SUMMARY: Under 31 U.S.C. 1104(d) and 44 U.S.C. 3504(e), the Office of Management and Budget (OMB) announces the review of the 2010 Standard Occupational Classification (SOC) Manual for possible revision in 2018 and solicits public comment on: the proposed revision of the 2010 SOC Classification Principles; the intention to retain the 2010 SOC Coding Guidelines; the intention to retain the 2010 SOC Major Group Structure; the correction, change, or combination of selected 2010 SOC detailed occupations, and inclusion of new detailed occupations. This review and possible revision of the 2010 SOC is intended to be completed by the end of 2016 and then released to begin use in reference year 2018. Details about these topics are available in the SUPPLEMENTARY INFORMATION section below.

DATES: To ensure consideration, all comments must be received in writing on or before July 21, 2014. Comments received with subject “2018 SOC” by the date specified above will be included as part of the official record. Please be aware that mail processing at Federal facilities may be delayed by security screening. Respondents are encouraged to send comments via email, FAX, or via http://www.regulations.gov (discussed in ADDRESSES below).

ADDRESSES: As indicated in the SOC Manual 2010, OMB established the SOC Policy Committee (SOCPC), chaired by the Bureau of Labor Statistics (BLS), to ensure that the SOC remains relevant and meets the needs of individuals and organizations. Accordingly, comments may be sent to: Standard Occupational Classification Policy Committee, U.S. Bureau of Labor Statistics, Suite 2135, 2 Massachusetts Avenue NE., Washington, DC 20212. Telephone number: (202) 691-6500; fax number: (202) 691-6444; or emailed to soc@BLS.gov with the subject “2018 SOC.” Because of delays in the receipt of regular mail related to security screening, respondents are encouraged to use electronic communication methods. Comments may be sent via http://www.regulations.gov—a Federal E-Government Web site that allows the public to find, review, and submit comments on documents published in the Federal Register that are open for comment. Simply type “2018 SOC” (in quotes) in the search box for “Rules, Comments, Adjudications or Supporting Documents” and follow the instructions.

Electronic availability. This document is available on the Internet from the SOC Web site at http://www.bls.gov/soc under the section titled “2018 SOC Revision Process.” To obtain this document via email, send a message to soc@bls.gov. The SOC Web site contains information on the purpose, background, and structure of the SOC, as well as additional guidance on providing input to the SOCPC for consideration by OMB during the SOC revision for 2018.

Availability of comment materials. OMB and the SOCPC welcome comments related to any aspect of occupational classification, the 2010 SOC, or the revision process. All comments received will be available to the public through relevant Web sites or by visiting the BLS during normal business hours, 8:15 a.m. to 4:45 p.m., in Suite 2135, 2 Massachusetts Avenue NE., Washington, DC 20212. Please call BLS at (202) 691-6500 to make an appointment if you wish to physically view the comments received in response to this notice. Because all comments will be available to the public, please do not include in your comments information of a confidential nature, such as sensitive personal information or proprietary information. If you send an email comment, your email address will be automatically captured and included as part of the comment that is placed in the public docket. Please note that responses to this public comment request containing any routine notice about the confidentiality of the communication will be treated as public comments that may be made available to the public notwithstanding the inclusion of the routine notice.

FOR FURTHER INFORMATION CONTACT: Paul Bugg, Office of Information and Regulatory Affairs, OMB, 10201 New Executive Office Building, 725 17th Street NW., Washington, DC 20503; email: pbugg@omb.eop.gov; telephone number: (202) 395-3095; fax number: (202) 395-7245.

SUPPLEMENTARY INFORMATION:

History of the 2010 SOC Revision

The U.S. Federal statistical system is decentralized, with 13 statistical agencies that have data collection as their primary mission and over 100 other agencies that collect data along with carrying out another primary mission. OMB coordinates the Federal statistical system by developing and overseeing the implementation of Government-wide principles, policies, standards, and guidelines concerning the presentation and dissemination of statistical information. The Standard Occupational Classification (SOC) is one of several standard classification systems established by OMB to ensure coordination of Federal statistical activities. All Federal agencies that publish occupational data for statistical purposes are required to use the SOC to increase data comparability (and thus, data utility) across Federal programs.

The SOC classifies all occupations in the economy, including private, public, and military occupations, in order to provide a means to compare occupational data produced for statistical purposes across agencies. It is designed to reflect the current occupational work structure in the U.S. and to cover all occupations in which work is performed for pay or profit. Information about occupations—employment levels, trends, pay and benefits, demographic characteristics, skills required, and many other items—is widely used by individuals, businesses, researchers, educators, and public policy-makers. The SOC helps ensure that occupational data produced across the Federal statistical system are comparable and can be used together in analysis. It is important to note that the SOC is designed and maintained solely for statistical purposes. Consequently, although the classification may also be used for various nonstatistical purposes (e.g., for administrative, regulatory, or taxation functions), the requirements of government agencies or private users that choose to use the SOC for nonstatistical purposes play no role in its development or revision.

To reflect changes in the economy and in the nature of work, the revision of the SOC must be considered periodically. The SOC was first issued in 1977, with a subsequent revision in 1980. Although the 1980 SOC was the basis for the occupational classification system used in the Census of Population and Housing in 1980 and 1990, neither the 1977 nor the 1980 SOC was widely used for other Federal data sources. With the implementation of the 2000 SOC, for the first time all major occupational data sources produced by the Federal statistical system provided comparable data, greatly improving the utility of the data. The 2010 SOC revision structured data collection, improved comparability, and maintained currency.

The SOCPC, comprised of representatives from nine Federal agencies, was originally chartered in 2005 by OMB to coordinate the revision of the SOC for 2010. Beginning in 2006, OMB published notices in the Federal Register to solicit public comment, questions, and suggestions for the 2010 SOC. The notices resulted in hundreds of comments. Based on these comments, the SOCPC formulated recommendations to OMB. Working with the SOCPC, OMB made its final decisions on the 2010 SOC, published these decisions in the Federal Register in January 2009, and then published final definitions for all detailed 2010 SOC occupations in the SOC Manual 2010.

The 2010 SOC revision resulted in both major and minor changes to the 2000 SOC. Although the 2010 SOC retained the basic 2000 SOC major group structure, its revisions increased clarity, corrected errors, and accounted for changes in technology and in the nature or organization of work in our economy. The 821 detailed occupations in the 2000 SOC expanded to 840 in 2010—a net increase that combined some occupations with others and added new ones as well. Meanwhile, almost half of the detailed occupations in the 2010 SOC remained the same as in 2000. However, there were significant updates to information technology, healthcare, and human resource occupations.

The 2010 SOC formalized a set of Coding Guidelines to help data collectors code occupations more consistently and to help data users better understand how occupations are classified. The Direct Match Title File was also introduced as a new feature. The Direct Match Title File lists associated job titles for detailed SOC occupations. Each of these titles is directly matched to a single SOC occupation. All workers with a job title listed in the Direct Match Title File are classified in only one detailed SOC occupation code. Documents related to the Direct Match Title File are available at http://www.bls.gov/soc/home.htm#DMTF. The Direct Match Title File serves as the source for the revamped, illustrative examples provided for each occupation in the 2010 SOC Manual.

OMB charged the SOCPC to continue as a standing committee to facilitate smooth processes for supporting the use of the SOC and for conducting future SOC revisions.

Review of the 2010 SOC and Request for Comments

OMB has requested that the SOCPC review the 2010 SOC for possible revision for 2018. Given the multiple interdependent programs that rely on the SOC, coordinating the decennial revisions of the SOC with these programs is best accomplished by timing revisions of the SOC for the year following North American Industry Classification System revisions, which occur for years ending in 2 and 7. The next such year is 2018, which has the additional benefit of coinciding with the beginning year of the American Community Survey five-year set of surveys that bracket the 2020 Decennial Census. Thus, OMB is soliciting comments for revision of the SOC for 2018 and plans to do so every 10 years thereafter.

OMB and the SOCPC solicit and welcome comments related to any aspect of occupational classification, especially comments concerning the following items which are described in more detail below:

• The proposed revision to the 2010 SOC Classification Principles;

• the intention to retain the 2010 SOC Coding Guidelines;

• the intention to retain the 2010 SOC Major Group structure;

• the correction, change, or combination of 2010 SOC detailed occupations; and

• proposals for new detailed occupations.

The Proposed Revision to the 2010 SOC Classification Principles

The SOC Classification Principles form the basis on which the SOC is structured and provide a foundation for classification decisions. The SOCPC proposes to modestly revise the 2010 SOC Classification Principles, available at http://www.bls.gov/soc/soc_2010_class_prin_cod_guide.pdf, and to add a new principle. Specifically, the SOCPC proposes: (1) To change the term “lowest” in the last sentence of Classification Principle 1 to “most detailed” for clarification; (2) to delete the last 4 words, “at a competent level” in Classification Principle 2 because they are unnecessary; (3) to add language clarifying that managers direct “resources” in Classification Principle 3; and (4) to add a principle related to maintaining time series continuity (Classification Principle 10) to emphasize its importance.

Accordingly, the proposed revisions to the 2010 Classification Principles for use in the 2018 SOC would result in the following set of SOC Classification Principles:

1. The SOC covers all occupations in which work is performed for pay or profit, including work performed in family-operated enterprises by family members who are not directly compensated. It excludes occupations unique to volunteers. Each occupation is assigned to only one occupational category at the most detailed level of the classification.

2. Occupations are classified based on work performed and, in some cases, on the skills, education and/or training needed to perform the work.

3. Workers primarily engaged in planning and the directing of resources are classified in management occupations in Major Group 11-0000. Duties of these workers may include supervision.

4. Supervisors of workers in Major Groups 13-0000 through 29-0000 usually have work experience and perform activities similar to those of the workers they supervise, and therefore are classified with the workers they supervise.

5. Workers in Major Group 31-0000 Healthcare Support Occupations assist and are usually supervised by workers in Major Group 29-0000 Healthcare Practitioners and Technical Occupations, and therefore there are no first-line supervisor occupations in Major Group 31-0000.

6. Workers in Major Groups 33-0000 through 53-0000 whose primary duty is supervising are classified in the appropriate first-line supervisor category because their work activities are distinct from those of the workers they supervise.

7. Apprentices and trainees are classified with the occupations for which they are being trained, while helpers and aides are classified separately because they are not in training for the occupation they are helping.

8. If an occupation is not included as a distinct detailed occupation in the structure, it is classified in an appropriate “All Other,” or residual, occupation. “All Other” occupations are placed in the structure when it is determined that the detailed occupations comprising a broad occupation group do not account for all of the workers in the group. These occupations appear as the last occupation in the group with a code ending in “9” and are identified in their title by having “All Other” appear at the end.

9. The U.S. Bureau of Labor Statistics and the U.S. Census Bureau are charged with collecting and reporting data on total U.S. employment across the full spectrum of SOC major groups. Thus, for a detailed occupation to be included in the SOC, either the Bureau of Labor Statistics or the Census Bureau must be able to collect and report data on that occupation.

10. To maximize the comparability of data, time series continuity is maintained to the extent possible.

The Intention To Retain the 2010 SOC Coding Guidelines

The SOC Coding Guidelines are intended to assist users when assigning SOC codes and titles to survey responses, and in other coding activities. The SOCPC does not propose any revisions to the Coding Guidelines that governed the 2010 SOC; however, suggestions from the public are welcome.

1. A worker should be assigned to an SOC occupation code based on work performed.

2. When workers in a single job could be coded in more than one occupation, they should be coded in the occupation that requires the highest level of skill. If there is no measurable difference in skill requirements, workers should be coded in the occupation in which they spend the most time. Workers whose job is to teach at different levels (e.g., elementary, middle, or secondary) should be coded in the occupation corresponding to the highest educational level they teach.

3. Data collection and reporting agencies should assign workers to the most detailed occupation possible. Different agencies may use different levels of aggregation, depending on their ability to collect data. For more information on data produced using the SOC, see the Frequently Asked Questions (FAQs) section of the 2010 SOC User Guide, available at http://www.bls.gov/soc/soc_2010_faqs_and_acknowledgements.pdf.

4. Workers who perform activities not described in any distinct detailed occupation in the SOC structure should be coded in an appropriate “All Other” or residual occupation. These residual occupational categories appear as the last occupation in a group with a code ending in “9” and are identified by having the words “All Other” appear at the end of the title.

5. Workers in Major Groups 33-0000 through 53-0000 who spend 80 percent or more of their time performing supervisory activities are coded in the appropriate first-line supervisor category in the SOC. In these same Major Groups (33-0000 through 53-0000), persons with supervisory duties who spend less than 80 percent of their time supervising are coded with the workers they supervise.

6. Licensed and non-licensed workers performing the same work should be coded together in the same detailed occupation, except where specified otherwise in the SOC definition.

The Intention To Retain the 2010 SOC Major Group Structure

The 2010 SOC classifies workers at four levels of aggregation: (1) Major Group; (2) Minor Group; (3) Broad Occupation; and (4) Detailed Occupation.

All occupations are clustered into one of the following 23 Major Groups:

11-0000 Management Occupations

13-0000 Business and Financial Operations Occupations

15-0000 Computer and Mathematical Occupations

17-0000 Architecture and Engineering Occupations

19-0000 Life, Physical, and Social Science Occupations

21-0000 Community and Social Service Occupations

23-0000 Legal Occupations

25-0000 Education, Training, and Library Occupations

27-0000 Arts, Design, Entertainment, Sports, and Media Occupations

29-0000 Healthcare Practitioners and Technical Occupations

31-0000 Healthcare Support Occupations

33-0000 Protective Service Occupations

35-0000 Food Preparation and Serving Related Occupations

37-0000 Building and Grounds Cleaning and Maintenance Occupations

39-0000 Personal Care and Service Occupations

41-0000 Sales and Related Occupations

43-0000 Office and Administrative Support Occupations

45-0000 Farming, Fishing, and Forestry Occupations

47-0000 Construction and Extraction Occupations

49-0000 Installation, Maintenance, and Repair Occupations

51-0000 Production Occupations

53-0000 Transportation and Material Moving Occupations

55-0000 Military Specific Occupations

In order to ensure consistency and satisfy a strong user preference for time series continuity in occupational employment and wage data, the SOCPC proposes that no changes be made to the current Major Groups as denoted in the SOC Manual 2010. However, comments are welcome on the proposal to retain the 2010 Major Groups. Commenters may also submit proposals to update the 2010 Major Group titles to reflect current industry terminology.

Proposals for Changes to Existing 2010 SOC Detailed Occupations

Generally, the definitions for SOC detailed occupations contain the minimum description needed to determine which workers would be classified in a particular occupation. Comments are welcome on corrections concerning typographical or definitional errors and other changes to the existing detailed occupations, including the combination of occupations. Suggested changes to existing detailed occupations may address the occupational title, definition, or its placement in the structure.

In addition, each SOC occupation has one or more Illustrative Examples, drawn from the Direct Match Title File, referenced above. Comments are invited on Illustrative Examples or Direct Match Titles that should be added, moved, or deleted. Detailed information on the purpose, structure, and the components of SOC definitions is available on the BLS SOC Web site at http://www.bls.gov/soc. For a description of the elements of an SOC definition, please see “Revising the Standard Occupational Classification” available at http://www.bls.gov/soc/revising_the_standard_occupational_classification_2018.pdf. In particular, Figure 1 and the accompanying text in that document describe the elements of a detailed SOC occupation. Additional guidance on the type of information that the SOCPC will find critical in making recommendations to OMB appears in the section “Public Input Requested” below.

Proposals for New Detailed Occupations

The SOCPC also invites proposals for new detailed occupations or the splitting of occupations, as warranted by changes in the economy, technology, and business practices that affect how employers structure work. Suggestions should be guided by the 2010 SOC Classification Principles and the proposed changes to the Classification Principles, above. In particular, suggestions should specifically address Classification Principles 2 and 9, as discussed below.

Classification Principle 2 dictates that the nature of the work performed is the main criterion for classifying a detailed occupation and determining where to place it in the structure. Thus, the SOCPC needs specific information describing the work performed by workers in the occupation, such as specific duties and tasks. This information is useful in evaluating whether the work performed in a recommended new occupation is sufficiently different from work performed in existing occupations, and to determine where in the classification structure a new occupation should be placed. As noted in Classification Principle 2, skills, education, or training are occasionally used to guide the classification decisions; primarily, however, classification decisions are based on the nature of the work performed.

Classification Principle 9 pertains to collectability—that is, whether data can actually be collected on the occupation. For a detailed occupation to be included in the SOC, either BLS or the Census Bureau must be able to collect and report data on the occupation. BLS and the Census Bureau are responsible for producing data across the entire range of occupations in the U.S. labor market, and conduct comprehensive household and business surveys that collect occupational data.

Collectability is partly a function of the size of the occupation—it must be large enough to be detected in sample household or business surveys. However, the SOCPC will not use a specific employment size cut-off to determine its recommendations to OMB. This is because small occupations that are concentrated in certain industries or geographic areas may be collectable, while occupations of similar or larger employment that are spread throughout the economy may not be collectable. Therefore, size is not the only consideration in collectability. Collectability is also related to the type of data collection used, specifically the comprehensive household and business surveys conducted by BLS and the Census Bureau.

In general, household surveys collect less information on the occupation of individuals than is possible in business surveys. For example, the Current Population Survey (CPS) and the American Community Survey (ACS)—both of which are household surveys—measure occupation by collecting the individual's job title and a very brief description of the person's most important activities or duties. In most household surveys, coders are not able to recontact the respondent for clarification. Since less information is available for assigning classification codes, household surveys generally provide less occupational detail than business surveys. Thus, occupational categories with fine distinctions from one another may not be collectable in household surveys. However, household surveys, such as the CPS and ACS, are the main sources of demographic information on workers by occupation, especially educational attainment, gender, age, and race/ethnicity. In addition, the CPS and ACS are the main sources of occupational data for parts of the workforce not covered by business surveys, namely the self-employed, unpaid family workers, and workers in private households and most agricultural industries. Occupations that are primarily comprised of these types of workers or mainly found in private households or agriculture therefore must be collectable on household surveys.

Business surveys collect data on occupations directly from employers. These surveys rely on the employer for information about the workers' duties, and often coders may recontact the employer to obtain clarifications. Thus, it is often possible to obtain detailed information about the work performed, providing occupational coders with more detail than is possible in most household surveys. Business surveys provide data on employment, wages, and benefits by occupation, and sometimes on other characteristics of the job or worker. In general, however, business surveys do not provide demographic information, nor do they include the self-employed, unpaid family workers, workers in private households, or workers in most agricultural industries.

Suggestions for new detailed occupations should also consider the proposed Classification Principle 10, above. To maintain the utility of the SOC, the SOCPC's recommendations to OMB will reflect the importance of maintaining time series continuity. To the extent possible, new occupations proposed for the 2018 SOC should be easily cross-walked to the 2010 SOC.

Job vs. Occupation

When reviewing and evaluating individual proposals, the SOCPC will consider the degree to which a proposed addition relates to a job rather than an occupation. In many cases, job titles intrinsically represent jobs, rather than true occupations as defined in the SOC. Specifically, a job is a set of work activities performed by an individual. The exact set of activities varies depending on the size and organization of the establishment and is often, but not always, unique to that individual worker. An occupation is a grouping of a number of individual jobs. Thus, an occupational definition is a collective description of a number of similar individual jobs performed, with minor variations, in different establishments. Occupational classification schemes such as the SOC organize millions of jobs into discrete occupations on the basis of their similarities as determined by the schemes' classification principles (please see the section above on “The Proposed Revision to the 2010 SOC Classification Principles”). For example, in the 2010 SOC, workers with the job title `Coronary Care Unit Staff Nurse' are classified in the 2010 SOC occupation Registered Nurses (29-1141).' Likewise, workers with the job title `Automotive Fuel Injection Servicer' are classified in the 2010 SOC occupation Automotive Service Technicians and Mechanics (49-3023).

Public Input Requested

The following information will assist the SOCPC in its consideration of comments on the review and possible revision of the 2010 SOC (particularly, for proposals of new detailed occupations):

1. Nature of the work performed. What duties do the workers in the occupation perform? Which duties are common to all jobs in the occupation and would therefore appear in the “required duties” statement in the occupation definition. (For a description of the elements of an SOC definition, please see “Revising the Standard Occupational Classification” available at http://www.bls.gov/soc/revising_the_standard_occupational_classification_2018.pdf. In particular, Figure 1 and the accompanying text in that document describe the elements of a detailed SOC occupation.) What duties are frequent but not performed by all workers and might be identified in “may” statements in the occupation definition? Are there supervisory or management duties? If so, what types of workers are supervised and what types of management activities are performed? For revisions to existing occupations, is the work described in the SOC definition accurate and up to date? Addressing the nature of the work performed is the most important type of information the SOCPC will use when considering comments.

2. Attributes of the work performed that make the occupation distinct from other detailed occupations in the SOC. Does the same or similar work appear in other SOC occupations? If so, how is the proposed occupation distinct? What changes should be made to existing SOC occupations that have the same or similar work?

3. Job titles. What job titles are commonly used by workers in this occupation? Are these titles unique to the proposed occupation? Are titles listed in the Direct Match Title File actually in use? Are there other titles that should be included in the file?

4. Indications of the number of jobs or workers in the occupation. Employment size and expected growth are helpful in evaluating collectability. Please provide references for the sources of this information.

5. Types of employers. In what industries does this occupation occur? This information can help clarify the nature of the work performed and assist evaluation of collectability.

6. Education and training. What education and training are typically required for workers to be able to perform this occupation? What types of schools or training providers offer this education or training? How long does the education or training take? What degrees or other credentials are generally required, if any? Identification of specific education and training programs and institutions is helpful.

7. Licensing. Are licenses usually required? Identification of specific licenses and licensing agencies is helpful.

8. Tools and technologies. What tools and technologies are generally used by workers in performing the occupation? Are the tools and technologies mentioned in existing SOC occupation definitions accurate and up to date?

9. Professional or trade associations and unions. Are there professional or trade associations or labor unions related to the proposed occupation? Identification of specific associations or unions is helpful.

Instructions for Providing SOC Comments

Public comments in response to this and related Federal Register notices are likely to comprise the bulk of the information the SOCPC will use in developing recommendations to OMB. Commenters are strongly encouraged to conduct the following activities:

1. Carefully review the Classification Principles and Coding Guidelines, as these guide the SOCPC's recommendations. Comments that reflect these principles and guidelines are likely to be more pertinent to the SOCPC's deliberations.

2. Carefully review the elements of an SOC detailed occupation as described in “Revising the Standard Occupational Classification” available at http://www.bls.gov/soc/revising_the_standard_occupational_classification_2018.pdf. In particular, Figure 1 and the accompanying text in that document describe the elements of a detailed SOC occupation. Review the “Public Input Requested” section above and provide the specific information requested.

3. Provide information on the nature of the work performed, including specific activities and tasks. This is the most important type of information for new occupations. Indications of activities that are required, and those that “may” be performed, by the worker are also helpful. Suggestions for a potential 2018 SOC code, title, and definition would be useful.

4. Prepare well-organized and concise comments. The SOCPC expects to receive hundreds of comments.

5. Include in the proposals a detailed description of the occupation together with an estimate of employment, and address the ability to collect data on the occupation, along with comments indicating how suggested changes will better reflect the current occupational structure in the U.S. economy.

OMB expects to consider the final recommendations and approve the final 2018 SOC by spring 2017. After the 2018 SOC is approved, the SOCPC will prepare the 2018 SOC Manual and supporting materials, make them available to the public, and continue its role of maintaining the classification leading up to the next revision.

Howard A. Shelanski,
Administrator, Office of Information and Regulatory Affairs.

[FR Doc. 2014-11913 Filed 5-21-14; 8:45 am]

BILLING CODE P